ENVIRONMENTAL PROTECTION AGENCY

[EPA-HQ-OECA-2013-0339; FRL-9954-00-OEI]

Information Collection Request Submitted to OMB for Review and Approval; Comment Request; NESHAP for Boat Manufacturing (Renewal)

AGENCY: Environmental Protection Agency (EPA).

ACTION: Notice.

SUMMARY: The Environmental Protection Agency has submitted an information collection request (ICR), “NESHAP for Boat Manufacturing (40 CFR part 63, subpart VVVV) (Renewal)” (EPA ICR No. 1966.06, OMB Control No. 2060-0546), to the Office of Management and Budget (OMB) for review and approval in accordance with the Paperwork Reduction Act (44 U.S.C. 3501 et seq.). This is a proposed extension of the ICR, which is currently approved through November 30, 2016. Public comments were previously requested via the Federal Register (81 FR 26546) on May 3, 2016, during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before December 19, 2016.

ADDRESSES: Submit your comments, referencing Docket ID Number EPA-HQ-OECA-2013-0339, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: Owners and operators of affected facilities are required to comply with reporting and recordkeeping requirements for the General Provisions (40 CFR part 63, subpart A), as well as for the standards at 40 CFR part 63, subpart VVVV. This includes submittal initial notifications, performance tests and periodic reports and results, and maintaining records of the occurrence and duration of any startup, shutdown, or malfunction in the operation of an affected facility, or any period during which the monitoring systems is inoperative. These reports are used by EPA to determine compliance with the standards.

Form Numbers: None.

Respondents/affected entities: Boat manufacturing facilities.

Respondent's obligation to respond: Mandatory (40 CFR part 63, subpart VVVV).

Estimated number of respondents: 144 (total).

Frequency of response: Initially, occasionally and semiannually.

Total estimated burden: 23,500 hours (per year). Burden is defined at 5 CFR 1320.3(b).

Total estimated cost: $2,430,000 (per year), includes $800 in annualized capital/startup and/or operation & maintenance costs.

Changes in the Estimates: There is no change in the labor hours in this ICR compared to the previous ICR. This is due to two considerations. First, the regulations have not changed over the past three years and are not anticipated to change over the next three years. Secondly, the growth rate for the industry is very low, negative or non-existent, so there is no significant change in the overall burden. However, there is an adjustment increase in the respondent burden costs due to an increase in labor rates. This ICR uses updated labor rates from the Bureau of Labor Statistics to calculate burden costs. This ICR also rounds all calculated total values to 3 significant figures.

Courtney Kerwin,
Director, Regulatory Support Division.

[FR Doc. 2016-27578 Filed 11-16-16; 8:45 am]

BILLING CODE 6560-50-P